ENVIRONMENTAL PROTECTION AGENCY

[EPA-HQ-OPPT-2021-0303; FRL-8753-01-OCSPP]

Agency Information Collection Activities; Proposed Renewal of an Existing Collection and Request for Comment; Methylene Chloride; Regulation of Paint and Coating Removal for Consumer Use Under TSCA Section 6(a)

AGENCY: Environmental Protection Agency (EPA).

ACTION: Notice.

SUMMARY: In compliance with the Paperwork Reduction Act (PRA), this document announces the availability of and solicits public comment on an Information Collection Request (ICR) that EPA is planning to submit to the Office of Management and Budget (OMB). The ICR, entitled: “Methylene Chloride; Regulation of Paint and Coating Removal for Consumer Use Under TSCA Section 6(a)” and identified by EPA ICR No. 2556.03 and OMB Control No. 2070-0204, represents the renewal of an existing ICR that is scheduled to expire on May 31, 2022. Before submitting the ICR to OMB for review and approval under the PRA, EPA is soliciting comments on specific aspects of the proposed information collection summarized in this document. The ICR and accompanying material are available in the docket for public review and comment.

DATES: Comments must be received on or before November 1, 2021.

ADDRESSES: Submit your comments, identified by docket identification (ID) number EPA-HQ-OPPT-2021-0303, using http://www.regulations.gov. Follow the online instructions for submitting comments. Do not submit electronically any information you consider to be Confidential Business Information (CBI) or other information whose disclosure is restricted by statute. Additional instructions on commenting or visiting the docket, along with more information about dockets generally, is available at http://www.epa.gov/dockets.

Due to the public health concerns related to COVID-19, the EPA Docket Center (EPA/DC) and Reading Room is closed to visitors with limited exceptions. The staff continues to provide remote customer service via email, phone, and webform. For the latest status information on EPA/DC and docket access, visit https://www.epa.gov/dockets.

FOR FURTHER INFORMATION CONTACT: Niva Kramek, Existing Chemicals Risk Management Division (7404T), Office of Pollution Prevention and Toxics, Environmental Protection Agency, 1200 Pennsylvania Ave. NW, Washington, DC 20460-0001; telephone number: (202) 564-4830; email address: kramek.niva@epa.gov.

For general information contact: The TSCA-Hotline, ABVI-Goodwill, 422 South Clinton Ave., Rochester, NY 14620; telephone number: (202) 554-1404; email address: TSCA-Hotline@epa.gov.

SUPPLEMENTARY INFORMATION:

I. What information is EPA particularly interested in?

Pursuant to PRA section 3506(c)(2)(A) (44 U.S.C. 3506(c)(2)(A)), EPA specifically solicits comments and information to enable it to:

1. Evaluate whether the proposed collection of information is necessary for the proper performance of the functions of the Agency, including whether the information will have practical utility.

2. Evaluate the accuracy of the Agency's estimates of the burden of the proposed collection of information, including the validity of the methodology and assumptions used.

3. Enhance the quality, utility, and clarity of the information to be collected.

4. Minimize the burden of the collection of information on those who are to respond, including through the use of appropriate automated electronic, mechanical, or other technological collection techniques or other forms of information technology, e.g., permitting electronic submission of responses. In particular, EPA is requesting comments from very small businesses (those that employ fewer than 25 individuals) on examples of specific additional efforts that EPA could make to reduce the paperwork burden for very small businesses affected by this collection.

II. What information collection activity or ICR does this action apply to?

Title: Methylene Chloride; Regulation of Paint and Coating Removal for Consumer Use Under TSCA Section 6(a).

ICR number: EPA ICR No. 2556.03.

OMB control number: OMB Control No. 2070-0204.

ICR status: This ICR is currently scheduled to expire on May 31, 2022. An Agency may not conduct or sponsor, and a person is not required to respond to, a collection of information, unless it displays a currently valid OMB control number. The OMB control numbers for EPA's regulations in title 40 of the Code of Federal Regulations (CFR), after appearing in the Federal Register when approved, are listed in 40 CFR part 9, and are displayed either by publication in the Federal Register or by other appropriate means, such as on the related collection instrument or form, if applicable. The display of OMB control numbers for certain EPA regulations is consolidated in 40 CFR part 9.

Abstract: The manufacture, processing, and distribution in commerce of methylene chloride for consumer paint and coating removal is prohibited under EPA regulations in 40 CFR part 751, as promulgated under the Toxic Substances Control Act (TSCA), 15 U.S.C. 2601 et seq. Each person who manufactures, processes, or distributes in commerce methylene chloride for non-prohibited uses is required to notify companies to whom methylene chloride is shipped of the prohibitions under 40 CFR part 751 through the Safety Data Sheet (SDS). Each person who manufactures, processes, or distributes in commerce (except for retailers) any methylene chloride is also required to retain in one location at the headquarters of the company, or at the facility for which the records were generated, documentation showing: (i) The name, address, contact, and telephone number of companies to whom methylene chloride was shipped; (ii) a copy of the notification provided to companies to whom the methylene chloride was shipped; and (iii) the amount of methylene chloride shipped. This information must be retained for 3 years from the date of shipment.

EPA established these requirements under section 6(a) of TSCA in response to a final determination that the consumer use of methylene chloride in paint and coating removal presents an unreasonable risk of injury to health. This ICR consists of the downstream notification of the prohibitions and the recordkeeping requirement.

Burden statement: The annual public reporting and recordkeeping burden for this collection of information is estimated to annual average 0.33 hours per response. Burden is defined in 5 CFR 1320.3(b).

The ICR supporting statement, which is available in the docket along with other related materials, provides a detailed explanation of the collection activities and the burden estimate that is only briefly summarized here:

Respondents/Affected Entities: Respondents affected by this activity may include those that engage in the manufacture, processing and distribution in commerce of methylene chloride for consumer paint and coating removal. The ICR provides a list of the North American Industrial Classification System codes that might apply to entities that may be affected by the activities described in this ICR.

Respondent's obligation to respond: Mandatory, per 40 CFR 751.

Estimated total number of potential respondents: 14.

Frequency of response: On occasion.

Estimated total average number of responses for each respondent: 1.

Estimated total annual burden hours: 6.96 hours.

Estimated total annual costs: $298.

III. Are there changes in the estimates from the last approval?

There is a decrease in total annual burden and costs compared with those identified in the ICR currently approved by OMB. Burden decreased from 69 hours to 6.96 hours and costs decreased from $3,712 to $298. This decrease in respondent burden and costs is due to a significant decrease in the number of estimated respondents. Most respondents need to perform the actions required by this ICR once and responded to the requirements during the previous ICR period. However, EPA does not assume that the number of responses has dropped to zero. Therefore, EPA has estimated low levels of respondents in each category to account for new firms or new products. This change is an adjustment.

In addition, OMB has requested that EPA move towards using the 18-question format for ICR Supporting Statements used by other federal agencies and departments and that is based on the submission instructions established by OMB in 1995, replacing the alternate format developed by EPA and OMB prior to 1995. The Agency does not expect this change in format to result in substantive changes to the information collection activities or related estimated burden and costs.

IV. What is the next step in the process for this ICR?

EPA will consider the comments received and amend the ICR as appropriate. The final ICR package will then be submitted to OMB for review and approval pursuant to 5 CFR 1320.12. EPA will issue another Federal Register document pursuant to 5 CFR 1320.5(a)(1)(iv) to announce the submission of the ICR to OMB and the opportunity to submit additional comments to OMB. If you have any questions about this ICR or the approval process, please contact the person listed under FOR FURTHER INFORMATION CONTACT.

Authority: 44 U.S.C. 3501 et seq.

Dated: August 26, 2021.
Michal Freedhoff,
Assistant Administrator, Office of Chemical Safety and Pollution Prevention.

[FR Doc. 2021-18784 Filed 8-30-21; 8:45 am]

BILLING CODE 6560-50-P